NATIONAL SCIENCE FOUNDATION

Health Information Technology Research and Development (HITRD) Interagency Working Group (IWG)

AGENCY: The Networking and Information Technology Research and Development, National Coordination Office, National Science Foundation.

ACTION: Request for public comment.

SUMMARY: With this notice, the Networking and Information Technology Research and Development (NITRD) National Coordination Office (NCO) requests comments from the public regarding the draft Federal Health Information Technology Research and Development Strategic Framework. The draft Strategic Framework is posted at: https://www.nitrd.gov/drafts/HITRD_StrategicFramework_Draft.pdf.

DATES: The deadline for submissions under this request for comments (RFC) is June 28, 2017.

ADDRESSES: You may submit comments by any of the following methods:

Email: hitrdframework2017@nitrd.gov, comments submitted by email should be machine-readable and should not be copy-protected;

Fax (703) 292-9097, Attn: Health Information Technology R&D; or

Mail: Attn: Health Information Technology R&D, NCO, Suite II-405, 4201 Wilson Blvd., Arlington, VA 22230.

Submissions must not exceed 3 pages in 12 point or larger font, with a page number provided on each page. Responders should include the name of the person(s) or organization(s) filing the comment.

Responses to this RFC may be posted online at http://www.nitrd.gov. Therefore, the Health IT R&D IWG requests that no business proprietary information or copyrighted information be submitted in response to this RFC.

In accordance with FAR 15.202(3), responses to this notice are not offers and cannot be accepted by the Government to form a binding contract. Responders are solely responsible for all expenses associated with responding to this RFC.

FOR FURTHER INFORMATION CONTACT: Beth Linas at blinas@nsf.gov or (703) 292-4871. Information about the NITRD Web site may be found at: https://www.nitrd.gov.

SUPPLEMENTARY INFORMATION:

Summary of the Draft Strategic Framework

The rapid development of Health Information Technology (health IT) has made it possible to improve human health in ways that were previously unimaginable. For example, imagine a world in which every individual carries a medical identification bracelet or token that enables them to safely and securely share their up-to-date and accurate medical record information as they wish. This will allow people to avoid the danger of not being able to remember or communicate their important health information (e.g., medications, conditions, and treatment history) in times of crisis. This vision for the future will become reality with strategic research and development (R&D) in data management, including data quality and transmission, accessibility, usability, security and privacy, validation, verification, standards, and infrastructure. For data to be useful, advanced analytics, such as machine learning, artificial intelligence, statistics and data mining, and networking, and communications are also required.

Health IT investments will do far more than facilitate ease of access for medical records. This paradigm shift within health and medicine will also allow people to unobtrusively monitor their health, receive the information they want when they need it, and have treatments targeted to their individual profile, prioritizing personal preferences and culture, including those in rural or resource-limited environments. Improvements in health IT will also influence how we prevent, diagnose, and treat disease, as well as how we shift the focus to wellness. These changes should have a cascading effect: People will have increased access to health services and be healthier and more productive. Because of the efficiencies afforded by advanced health IT, this enhanced quality will be realized while reducing cost and adapting to the coming changes in the population and workforce.

This R&D Framework lays out a clear, comprehensive, structured description of the current state of a field of research, organized and explained in a way that facilitates understanding of the field by all stakeholders, and that supports R&D coordination and cooperation by participating Federal agencies. This health IT R&D Strategic Framework will improve medical, functional, and societal health outcomes through R&D in the use of data and IT for advanced health IT applications. Health IT R&D includes, but is not limited to, the use of digital information, data, and technology across the human lifespan in the areas of screening, diagnosis, treatment and surveillance; preventable medical error reduction; disease prevention; self-management of health behavior and wellness; healthcare; and disaster and emergency response that support improved individual and community health outcomes. It does not include research in basic biological sciences (e.g., computational biology) or approaches that enhance health indirectly (e.g., technologies to enhance transportation).

This Strategic Framework is designed to provide an overview of the salient issues, needs and ongoing federal investments in health IT R&D. This Framework aligns with the Office of the National Coordinator for Health Information Technology's (ONC's) Federal Health IT Strategic Plan 2015-2020 by focusing on Federal R&D investments. This Framework summarizes the motivators and challenges, needs, mechanisms of collaboration, and the ongoing research, in order to identify gaps and allow for enhanced coordination and planning of Federal agency health IT R&D.

The Central Goals that motivate this strategy are to:

• Understand motivators and challenges in health IT R&D;

• Accelerate health IT innovation and infrastructure development;

• Facilitate cross-sector collaboration and bridge existing silos;

• Boost innovation and promote U.S. global leadership; and

• Focus on people-centered solutions that support safety and effectiveness and enhance economic competitiveness.

A key objective of this plan is to identify priorities for federally funded research and development (R&D) as well as capacity-building to help transform health IT R&D and improve our Country's health. To do so, the Strategic Priorities identified herein are to:

• Accelerate fundamental R&D for health IT;

• Facilitate accurate, secure and resilient health IT infrastructure, systems, and services;

• Foster health IT R&D innovation through data and knowledge sharing, best practices, and collaboration; and

• Enable evaluation of progress and long-term growth of health IT.

This plan envisions Federal agencies working together and engaging with academia, industry, civil society, and other key stakeholders. The aim is to accelerate the development and implementation of new discoveries and innovations that in turn enable health IT R&D to address our Country's most important challenges. Therefore, the Collaboration Opportunities in Health IT R&D identified in this Strategic Framework include, through the health IT R&D Working Group, promoting interagency coordination and collaboration; and, engaging academic, industry and medical communities to collect feedback on and enable continued refinement of this Strategic Framework and future efforts.

Questions for Commenters

The Health IT Working Group invites comments on the draft strategic framework. In particular, commenters should consider the following questions as they develop their responses:

• Are the central motivations appropriate and/or are there other issues that should be considered?

• Are the strategic needs appropriate and/or are there other priorities that should be considered?

• Are the collaboration opportunities identified in the draft framework appropriate and/or are there others that should be considered?

Submitted by the National Science Foundation in support of the Networking and Information Technology Research and Development (NITRD) National Coordination Office (NCO) on May 24, 2017.
Suzanne H. Plimpton,
Reports Clearance Officer, National Science Foundation.

[FR Doc. 2017-11072 Filed 5-26-17; 8:45 am]

BILLING CODE 7555-01-P